DEPARTMENT OF VETERANS AFFAIRS

[OMB Control No. 2900-0657]

Agency Information Collection Activity Under OMB Review: Conflicting Interests Certification for Proprietary Schools

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0657.”

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0657” in any correspondence.

SUPPLEMENTARY INFORMATION: Authority: 38 U.S.C. 3683; 38 CFR 21.4200(z); 38 CFR 21.4202(c); 38 CFR 21.5200(c); 38 CFR 21.7122(e)(6); and 38 CFR 21.7622(f)(4)(iv).

Title: Conflicting Interests Certification for Proprietary Schools.

OMB Control Number: 2900-0657.

Type of Review: Revision of a currently approved collection.

Abstract: Schools are required to submit information necessary to determine if their programs of training are approved for the payment of VA educational assistance. This specified information is submitted either to VA or to the State Approving Agency (SAA) having jurisdiction over that school. Certain schools are considered “proprietary” schools. A proprietary educational institution, as defined in 38 CFR 21.4200(z), is a private institution legally authorized to offer a program of education in the State where the institution is physically located. Section 3683 of title 38, U.S.C., and sections of title 38 of the Code of Federal Regulations (CFR) establish conflict of interest restrictions related to proprietary schools. The VA Form 22-1919 is the instrument VA has implemented to address these restrictions.

(a) VA Form 22-1919 is only used to collect information on two issues:

(i) Section 3683 of title 38, U.S.C., prohibits employees of VA and the SAA from owning any interest in an educational institution operated for-profit. In addition, the law prohibits VA or SAA employees from receiving any wages, salary, dividends, profits, or gifts from private for-profit schools in which an eligible person is pursuing a program of education under an educational assistance program administered by VA. In addition, the law prohibits VA employees from receiving any services from these schools. These provisions may be waived if VA determines that no detriment will result to the government, or to Veterans or eligible persons enrolled at that private for-profit school. Item 1 of VA Form 22-1919 collects the name and title of affected VA and SAA employees known by the President (or Chief Administrative Official) of the school, as well as a description of these employees' association with that school.

(ii) Sections 21.4202(c), 21.5200(c), 21.7122(e)(6), and 21.7622(f)(4)(iv) of title 38 of the CFR prohibit the approval of educational assistance from VA for the enrollment of an eligible person in any proprietary school where the trainee is an official authorized to sign certifications of enrollment. Item 2 of VA Form 22-1919 collects the following information for each certifying official, owner, or officer who receives VA educational assistance based on an enrollment in that proprietary school: The name and title of these employees; VA file numbers; and dates of enrollment at the proprietary school.

(b) VA only collects this information at the time one (or more) of these events occurs:

(i) The initial approval of a program or course at a proprietary for-profit school;

(ii) Any change of ownership of the school (either reported by the school or found upon review of a school's records during VA's “compliance survey”);

(iii) A change in proprietary status (from non-proprietary to proprietary, or from non-profit to profit status).

When the SAA, or VA acting as the SAA, visits the school in connection with the school's request for approval of its program(s), the representative has either the school's President or chief administrative official sign VA Form 22-1919. VA's Education Liaison Representative (ELR) will associate the completed VA Form 22-1919 with the other documentation compiled for approval of the school's program(s) and will retain this information in the approval folder. The approval folder is retained until such time as the SAA or VA withdraws approval of all courses at the school. All information in the approval folder is then destroyed according to established record control schedules.

(c) The following administrative and legal requirements affect proprietary schools as defined in 38 CFR 21.4200(z) and necessitate the VA Form 22-1919 collection:

i. 38 U.S.C. 3683, Conflicting Interests. Impacts proprietary for-profit schools only.

ii. Regulations that reflect the restrictions applicable to all proprietary schools:

A. 38 CFR 21.4202(c). Overcharges; restrictions on enrollments. Restrictions; proprietary schools.

B. 38 CFR 21.5200(c). Schools. Overcharges; restrictions on enrollments. Restrictions; proprietary schools.

C. 38 CFR 21.7122(e)(6). Courses precluded. Other courses.

D. 38 CFR 21.7622(f)(4)(iv). Courses precluded. Other courses.

An agency may not conduct or sponsor, and a person is not required to respond to a collection of information unless it displays a currently valid OMB control number. The Federal Register Notice with a 60-day comment period soliciting comments on this collection of information was published on 85, FR, 120, June 22, 2020, at pages 37498-37499.

Affected Public: Institutions of Higher Learning.

Estimated Annual Burden: 56 hours.

Estimated Average Burden per Respondent: 10 minutes.

Frequency of Response: Occasionally.

Actual Number of Respondents: 336.

By direction of the Secretary.
Danny S. Green,
VA Clearance Officer, Office of Quality, Performance and Risk, Department of Veterans Affairs.

[FR Doc. 2020-18742 Filed 8-25-20; 8:45 am]

BILLING CODE 8320-01-P